DEPARTMENT OF THE INTERIOR

National Park Service

[NPS-WASO-NRNHL-DTS#-31229; PPWOCRADI0, PCU00RP14.R50000]

National Register of Historic Places; Notification of Pending Nominations and Related Actions

AGENCY: National Park Service, Interior.

ACTION: Notice.

SUMMARY: The National Park Service is soliciting electronic comments on the significance of properties nominated before November 28, 2020, for listing or related actions in the National Register of Historic Places.

DATES: Comments should be submitted electronically by December 24, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before November 28, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

CALIFORNIA

Riverside County

Donaldson Futuro, 52895 Big Rock Rd., Idyllwild vicinity, SG100005994

San Francisco County

Mission Cultural Center (Latinos in 20th Century California MPS), 2868 Mission St., San Francisco, MP100005987

LOUISIANA

Tangipahoa Parish

Husser School-Husser Community Center, 56280 LA 445, Husser, SG100005986

MINNESOTA

Lake County

Kawishiwi Lodge, 3187 Fernberg Rd., Fall Lake Township, SG100005995

NORTH CAROLINA

Burke County

Southern Railway Freight Station, 630 South Green St., Morganton, SG100005993

Franklin County

Pearce-Stallings-Massey House, 4430 Old US 64, Pilot vicinity, SG100005997

Wilkes County

Harmon School, Sheets Gap Rd., .6 mi. west of jct. with Buckwheat Branch Rd., Laurel Springs vicinity, SG100005992

OHIO

Highland County

Greenfield Commercial Historic District, Roughly bounded by Jefferson, Washington, and Mirabeau Sts., Greenfield, SG100005996

PENNSYLVANIA

Allegheny County

Hunter Saw & Machine Company, 5648-5688 Butler St., Pittsburgh, SG100005985

Bedford County

Fort Dewart, Address Restricted, Juniata Township vicinity, SG100005989

Somerset County

Fort Dewart, Address Restricted, Allegheny Township vicinity, SG100005989

SOUTH CAROLINA

Horry County

Noel Court and Apartments (Myrtle Beach MPS), 312 6th Ave. North, Myrtle Beach, MP100005988

TEXAS

Bell County

High View, 731 Wolf St., Killeen, SG100005990

Nomination submitted by Federal Preservation Officer:

The State Historic Preservation Officer reviewed the following nomination and responded to the Federal Preservation Officer within 45 days of receipt of the nomination and supports listing the property in the National Register of Historic Places.

ARKANSAS

Newton County

Flowers Cabin, Buffalo NR, Bench Trail, approx. .2 mi. east of the Hemmed In Hollow Trail, south of the Compton Trailhead, Compton vicinity, SG100005991

(Authority: Section 60.13 of 36 CFR part 60)

Dated: December 2, 2020.
Sherry A. Frear,
Chief, National Register of Historic Places/National Historic Landmarks Program.

[FR Doc. 2020-27040 Filed 12-8-20; 8:45 am]

BILLING CODE 4312-52-P